DEPARTMENT OF TRANSPORTATION

Federal Aviation Administration

14 CFR Part 39

[Docket No. FAA-2006-23675; Directorate Identifier 2001-NM-320-AD; Amendment 39-14686; AD 2006-15-06]

RIN 2120-AA64

Airworthiness Directives; Airbus Model A300 B2-203 and A300 B4-203 Airplanes; Model A300 B4-600, B4-600R, and F4-600R Series Airplanes, and Model C4-605R Variant F Airplanes (Collectively Called A300-600 Series Airplanes); and Model A310-200 and -300 Series Airplanes

AGENCY: Federal Aviation Administration (FAA), Department of Transportation (DOT).

ACTION: Final rule.

SUMMARY: The FAA is superseding an existing airworthiness directive (AD), which applies to certain Airbus Model A300 series airplanes and all Model A300-600 and A310 series airplanes. That AD currently requires repetitive inspections of the pitch trim system to detect continuity defects in the autotrim function, and follow-on corrective actions if necessary. For certain airplanes, this new AD requires replacing the flight augmentation computers (FACs) with new improved FACs. This AD also revises the applicability of the existing AD. This AD results from the development of a final action intended to address the unsafe condition. We are issuing this AD to prevent a sudden change in pitch due to an out-of-trim condition combined with an autopilot disconnect, which could result in reduced controllability of the airplane.

DATES: This AD becomes effective August 24, 2006.

The Director of the Federal Register approved the incorporation by reference of certain publications listed in the AD as of August 24, 2006.

On December 20, 2000 (65 FR 68876, November 15, 2000), the Director of the Federal Register approved the incorporation by reference of certain other publications listed in the AD.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2000-23-07, amendment 39-11977 (65 FR 68876, November 15, 2000). The existing AD applies to certain Airbus Model A300 series airplanes and all Model A300-600 and A310 series airplanes. That NPRM was published in the Federal Register on January 25, 2006 (71 FR 4062). That NPRM proposed to require repetitive inspections of the pitch trim system to detect continuity defects in the autotrim function, and follow-on corrective actions if necessary. That NPRM also proposed to require replacing the flight augmentation computers (FACs) with new improved FACs on certain airplanes.

Comments

We provided the public the opportunity to participate in the development of this AD. We have considered the comments that have been received on the NPRM.

Request To Revise Applicability: Paragraph (c)(1)

The commenter, Airbus, requests that we revise paragraph (c)(1) of the NPRM to retain the applicability of the existing AD for A300 B2-203 and A300 B4-203 airplanes. The applicability of AD 2000-23-07 for those airplanes is:

Model A300 B2-203 and A300 B4-203 airplanes in a forward facing cockpit version, as listed in Airbus Service Bulletin A300-22A0115, Revision 02, dated March 7, 2000.

The applicability specified in paragraph (c)(1) of the NPRM omitted the restriction “in a forward facing cockpit version.” The commenter asserts that the mandatory actions for those airplanes are restated from AD 2000-23-07, so no new requirements for those airplanes are introduced in this AD.

We agree that this AD adds no new requirements for those airplanes. In the revised applicability for those airplanes, the forward-facing-cockpit restriction is removed because it is included in the service bulletin effectivity. We have not revised the applicability specified in the NPRM.

Request To Revise Applicability: Paragraph (c)(3)

The same commenter found a typographical error in the NPRM. Paragraph (c)(3), which identifies affected A310-200 and -300 series airplanes by their associated modification number, should have referred to Modification 12931 instead of Modification 12932.

We acknowledge this error and have revised this final rule accordingly.

Additional Changes to NPRM

The requirements of paragraph (f) of the NPRM would apply to “airplanes subject to the requirements of AD 2000-23-07,” which include:

• Model A300 B2-203 and A300 B4-203 airplanes in a forward-facing cockpit configuration;

• All Model A310-200 and -300 series airplanes; and

• Model A300-600 series airplanes, except those with Modification 12277 installed in production.

We have revised this description to clarify the affected airplanes. Once an AD is superseded, no airplane is subject to its requirements, and it may not be possible for operators to obtain a copy to identify the affected airplanes and requirements. Because AD compliance records must be maintained permanently and transferred with airplanes, operators must always be able to determine whether a particular AD has been accomplished, even after it has been superseded. Therefore, we have revised paragraph (f) in this final rule to more precisely describe the airplanes affected by that requirement.

We have also clarified paragraph (g) in this final rule by introducing the paragraph with the airplanes affected by this new requirement. Those airplanes are also identified in Table 1 of the AD.

Conclusion

We have carefully reviewed the available data, including the comments that have been received, and determined that air safety and the public interest require adopting the AD with the changes described previously. We have determined that these changes will neither increase the economic burden on any operator nor increase the scope of the AD.

Costs of Compliance

This AD affects about 86 airplanes of U.S. registry. The following table provides the estimated costs for U.S. operators to comply with this AD.

Cost Estimates
Action | Service bulletins | Work hours | Hourly labor rate | Parts cost | Total per airplane
Inspection, per inspection cycle | A300-22A6042, A300-22A0115, A310-22A2053 | 1 | $65 | None | $65, per inspection cycle.
FAC replacement | A300-22-6050, A310-22-2058 | 9 | 65 | $2,677 | $3,262.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11977 (65 FR 68876, November 15, 2000) and by adding the following new airworthiness directive (AD):

2006-15-06 Airbus: Amendment 39-14686. Docket No. FAA-2006-23675; Directorate Identifier 2001-NM-320-AD.

Effective Date

(a) This AD becomes effective August 24, 2006.

Affected ADs

(b) This AD supersedes AD 2000-23-07.

Applicability

(c) This AD applies to the following Airbus airplanes, certificated in any category.

(1) Model A300 B2-203 and A300 B4-203 airplanes, as identified in Airbus Service Bulletin A300-22A0115, Revision 02, dated March 7, 2000.

(2) Model A300 B4-601, B4-603, B4-620, B4-622, A300 B4-605R, B4-622R, A300 F4-605R, F4-622R, and A300 C4-605R Variant F airplanes, except those modified in production by Airbus Modification 12932.

(3) Model A310-203, -204, -221, -222, -304, -322, -324, and -325 airplanes, except those modified in production by Airbus Modification 12931.

Unsafe Condition

(d) This AD results from the development of final action intended to address the unsafe condition. We are issuing this AD to prevent a sudden change in pitch due to an out-of-trim condition combined with an autopilot disconnect, which could result in reduced controllability of the airplane.

Compliance

(e) You are responsible for having the actions required by this AD performed within the compliance times specified, unless the actions have already been done.

Restatement of Requirements of AD 2000-23-07

Repetitive Inspections

(f) For Model A300 B2-203 and A300 B4-203 airplanes in a forward-facing cockpit configuration; all Model A310-200 and -300 series airplanes; and Model A300-600 series airplanes, except those with Modification 12277 installed in production: At the applicable time specified by paragraph (f)(1) or (f)(2) of this AD, perform an inspection of the autotrim function by testing the flight control computer (FCC)/flight augmentation computer (FAC) integrity in logic activation of the autotrim, in accordance with Airbus Service Bulletin A300-22A6042, Revision 01 (for Model A300-600 series airplanes); A300-22A0115, Revision 02 (for Model A300 series airplanes); or A310-22A2053, Revision 01 (for Model A310 series airplanes); all dated March 7, 2000; as applicable. If any discrepancy is found, prior to further flight, perform all applicable corrective actions (including trouble-shooting; replacing the FCC and/or FAC, as applicable; retesting; checking the wires between certain FCC and FAC pins; and repairing damaged wires) in accordance with the applicable service bulletin. Repeat the inspection thereafter at intervals not to exceed 500 flight hours. Replacement of both FACs in accordance with paragraph (g) of this AD terminates the inspection requirements of this paragraph.

(1) For airplanes on which the pitch trim system test has been performed in accordance with the requirements of AD 2000-02-04, amendment 39-11522: Inspect within 500 flight hours after accomplishment of the test required by that AD, or within 20 days after December 20, 2000 (the effective date of AD 2000-23-07), whichever occurs later.

(2) For all other airplanes: Inspect within 20 days after December 20, 2000.

New Requirements of this AD

FAC Replacement

(g) For airplanes identified in paragraphs (c)(2) and (c)(3) of this AD: At the time specified in Table 1 of this AD, replace the two FACs with new FACs in accordance with the Accomplishment Instructions of Airbus Service Bulletin A300-22-6050, dated October 8, 2004; or A310-22-2058, dated April 6, 2005; as applicable.

Table 1.—Compliance Times To Replace FACs
Airplane model/series | Configuration | Required compliance time after the effective date of this AD
A300-600 | Without accomplishment of Airbus Service Bulletin A300-22-6041, Revision 01, dated February 21, 2001, or previous version, or Modification 12277 | 24 months.
| And without accomplishment of Airbus Service Bulletin A300-22-6050, dated October 8, 2004, or Modification 12932
| With accomplishment of Airbus Service Bulletin A300-22-6041, Revision 01, dated February 21, 2001, or previous version, or Modification 12277 | 36 months.
| And without accomplishment of Airbus Service Bulletin A300-22-6050, dated October 8, 2004, or Modification 12932
A310 | Without accomplishment of Airbus Service Bulletin A310-22-2052, Revision 01, dated November 8, 2001, or previous version, or Modification 12277 | 24 months.
| And without accomplishment of Airbus Service Bulletin A310-22-2058, dated April 6, 2005, or Modification 12931
| With accomplishment of Airbus Service Bulletin A310-22-2052, Revision 01, dated November 8, 2001, or previous version, or Modification 12277 | 36 months.
| And without accomplishment of Airbus Service Bulletin A310-22-2058, dated April 6, 2005, or Modification 12931

Part Installation

(h) On or after the effective date of this AD, no person may install, on any airplane, any FAC having part number (P/N) B471AAM7 (for Model A300-600 series airplanes) or FAC P/N B471ABM4 (for Model A310 series airplanes), unless the FAC is in compliance with this AD.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) The subject of this AD is addressed in French airworthiness directives F-2005-111 R1, dated December 21, 2005, and F-2000-115-304 R5, dated July 6, 2005.

Material Incorporated by Reference

(k) You must use the documents identified in Table 2 of this AD, as applicable, to perform the actions that are required by this AD, unless the AD specifies otherwise.

Table 2.—Documents Incorporated by Reference
Airbus Service Bulletin | Revision | Date
A300-22-6050 | Original | October 8, 2004.
A300-22A0115 | 02, including Appendix 01 | March 7, 2000.
A300-22A6042 | 01, including Appendix 01 | March 7, 2000.
A310-22-2058 | Original | April 6, 2005.
A310-22A2053 | 01, including Appendix 01 | March 7, 2000.

(1) The Director of the Federal Register approved the incorporation by reference of the documents identified in Table 3 of this AD in accordance with 5 U.S.C. 552(a) and 1 CFR part 51.

Table 3.—New Documents Incorporated by Reference
Airbus Service Bulletin | Revision | Date
A300-22-6050 | Original | October 8, 2004.
A310-22-2058 | Original | April 6, 2005.

(2) On December 20, 2000 (65 FR 68876, November 15, 2000), the Director of the Federal Register approved the incorporation by reference of the documents identified in Table 4 of this AD.

Table 4.—Documents Previously Incorporated by Reference
Airbus Service Bulletin | Revision | Date
A300-22A0115 | 02, including Appendix 01 | March 7, 2000.
A300-22A6042 | 01, including Appendix 01 | March 7, 2000.
A310-22A2053 | 01, including Appendix 01 | March 7, 2000.

(3) Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 7, 2006.
Ali Bahrami,
Manager, Transport Airplane Directorate, Aircraft Certification Service.

[FR Doc. E6-11414 Filed 7-19-06; 8:45 am]

BILLING CODE 4910-13-P